CONSUMER PRODUCT SAFETY COMMISSION

16 CFR Chapter II

Fiscal Year 2007 Program for Systematic Review of Commission Regulations; Request for Comments and Information

AGENCY: Consumer Product Safety Commission.

ACTION: Notice of systematic review of current regulations.

SUMMARY: The Consumer Product Safety Commission staff (CPSC or Commission) announces the fiscal year 2007 program for systematic review of current CPSC substantive regulations to ensure, to the maximum practical extent, consistency among them and with respect to accomplishing program goals. In fiscal year 2007, the following two regulations will be evaluated: Ban of Unstable Refuse Bins, 16 CFR part 1301; and Requirements for Pacifiers, 16 CFR part 1511.

The primary purpose of the review is to assess the degree to which the regulations under review remain consistent with the Commission's program policies. In addition, each regulation will be examined with respect to the extent that it is current and relevant to CPSC program goals. Attention will also be given to whether the regulations can be streamlined, if possible, to minimize regulatory burdens, especially on small entities. To the degree consistent with other Commission priorities and subject to the availability of personnel and fiscal resources, specific regulatory or other projects may be undertaken in response to the results of the review.

The Commission staff solicits written comments from interested persons concerning the designated regulations' currentness and consistency with Commission policies and goals, and suggestions for streamlining where appropriate. In so doing, commenters are requested to specifically address how their suggestions for change could be accomplished within the statutory frameworks for Commission action under the Consumer Product Safety Act (CPSA), 15 U.S.C. 2051-2084, and the Federal Hazardous Substances Act (FHSA), 15 U.S.C. 1261-1278.

DATES: Comments and submissions in response to this notice must be received by September 24, 2007.

ADDRESSES: Comments and other submissions should be captioned “Fiscal Year 2007 Regulatory Review Project” and be submitted by e-mail to cpsc-os@cpsc.gov or by facsimile to (301) 504-0127. Comments may also be submitted by mail or delivered to the Office of the Secretary, Consumer Product Safety Commission, Room 502, 4330 East-West Highway, Bethesda, Maryland 20814.

FOR FURTHER INFORMATION CONTACT: Linda Edwards, Office of Hazard Identification and Reduction, U.S. Consumer Product Safety Commission, 4330 East-West Highway, Bethesda, Maryland 20814; telephone (301) 504-7535; e-mail eedwards@cpsc.gov.

SUPPLEMENTARY INFORMATION:

A. The Review Program

The President's Office of Management and Budget has designed the Program Assessment Rating Tool (PART) to provide a consistent approach to rating programs across the Federal government. A description of the PART process and associated program evaluation materials is available online at: http://www.whitehouse.gov/omb/budintegration/part_assessing2004.html.

Based on an evaluation of the Commission's regulatory programs using the PART, the recommendation was made that CPSC develop a plan to systematically review its current regulations to ensure consistency among them in accomplishing program goals. In FY 2004, the Commission conducted a pilot review program as the initial step in implementing that recommendation. The notice announcing the pilot program appeared in the Federal Register on January 28, 2004. 69 FR 4095. Based on the success of the pilot program, the Commission announced the continuation of the program for subsequent fiscal years.

B. The Regulations Undergoing Review

A summary of each of the regulations being reviewed in fiscal year 2007 is provided below. The full text of the regulations may be accessed at: http://www.access.gpo.gov/nara/cfr/waisidx_03/16cfrv2_03.html.

1. Ban of Unstable Refuse Bins

The Ban of Unstable Refuse Bins, 16 CFR part 1301, bans certain metal refuse bins having an internal volume of one cubic yard or greater to address the hazard of crushing due to tipover. The rule, which was established under the Consumer Product Safety Act and became effective on June 13, 1978, provides test methods to determine the stability of refuse bins.

2. Requirements for Pacifiers

The Requirements for Pacifiers, 16 CFR part 1511, provides requirements whereby pacifiers are not banned under 16 CFR 1500.18(a)(8). The rule provides performance requirements for guards or shields; protrusion limitations; structural integrity tests; a prohibition for attachments such as ribbons, strings, or cords; and labeling requirements. The rule, which was established under the Federal Hazardous Substances Act and became effective on February 26, 1978, addresses mechanical hazards associated with pacifiers such as choking and suffocation.

C. Solicitation of Comments and Information

The Commission staff invites interested persons to submit comments on each of the regulations being reviewed in the fiscal year 2007 program. In particular, commenters are asked to address:

1. Whether the regulation is consistent with CPSC program goals.

2. Whether the regulation is consistent with other CPSC regulations.

3. Whether the regulation is current with respect to technology, economic, or market conditions, and other mandatory or voluntary standards.

4. Whether the regulation can be streamlined to minimize regulatory burdens, particularly any such burdens on small entities.

For each regulation being reviewed, please provide any specific recommendations for change(s), if viewed as necessary, a justification for the recommended change(s), and, with respect to each suggested change, a statement of the way in which the change can be accomplished within the statutory framework of the CPSA or FHSA, as applicable.

Comments and other submissions should be captioned “Fiscal Year 2007 Regulatory Review Project” and e-mailed to cpsc-os@cpsc.gov or faxed to (301) 504-0127. Comments or other submissions may also be mailed or delivered to the Office of the Secretary, Consumer Product Safety Commission, Room 502, 4330 East-West Highway, Bethesda, Maryland 20814. All comments and other submissions must be received by September 24, 2007.

Dated: July 18, 2007.
Todd A. Stevenson,
Secretary, Consumer Product Safety Commission.

[FR Doc. E7-14248 Filed 7-23-07; 8:45 am]

BILLING CODE 6355-01-P